DEPARTMENT OF DEFENSE

Department of the Army

Notice of Availability for the Draft Environmental Impact Statement (DEIS) for Grow the Army Actions at Fort Carson, CO

AGENCY: Department of the Army, DoD.

ACTION: Notice of Availability (NOA).

SUMMARY: The Department of the Army announces the availability of a DEIS for the implementation of the decision to station a new Infantry Brigade Combat Team (IBCT) and smaller combat support units at Fort Carson, and the potential stationing of a Combat Aviation Brigade (CAB) at Fort Carson in the future.

DATES: The public comment period for the DEIS will end 45 days after publication of an NOA in the Federal Register by the U.S. Environmental Protection Agency.

ADDRESSES: For specific questions regarding the DEIS, please contact Ms. Deb Owings or Ms. Robin Renn, Fort Carson and Pinon Canyon Maneuver Site National Environmental Policy Act Coordinators, 1638 Elwell Street, Building 6236, Fort Carson, CO 80913-4000. Written comments may be mailed to that address or e-mailed to CARSDECAMNEPA@conus.army.mil.

FOR FURTHER INFORMATION CONTACT: Ms. Dee McNutt, Fort Carson Public Affairs Office, at (719) 526-1269, during normal business hours.

SUPPLEMENTARY INFORMATION: The Proposed Action and analysis in the DEIS includes constructing new facilities at Fort Carson to support an IBCT and other combat support units (approximately 3,900 additional Soldiers and their dependents) and the potential stationing of a CAB (approximately 2,800 Soldiers and their dependents). Additional actions evaluated as part of the Proposed Action include upgrading ranges at Fort Carson and increased use of live-fire training ranges and maneuver areas at Fort Carson and the Pinon Canyon Maneuver Site (PCMS). Implementation of the Proposed Action is anticipated in 2009 and would begin following the completion of a Final EIS and signing of a Record of Decision (ROD). The Proposed Action does not include the expansion of PCMS or any construction at PCMS.

The stationing of additional BCTs and other force structure realignment actions across the Army was analyzed in the 2007 Final Programmatic Environmental Impact Statement for Army Growth and Force Structure Realignment. The ROD determined that Fort Carson would receive an additional IBCT and other units contingent on site-specific NEPA analysis. The DEIS is that site-specific analysis of the environmental and socioeconomic impacts of alternatives for implementing the Army's previous stationing decision. The DEIS also analyzes the potential stationing of a CAB.

The DEIS analyzes the impacts of several alternatives for construction of the IBCT facilities and the No Action Alternative. Under the No Action Alternative, the stationing of a new IBCT and CAB at Fort Carson would not be implemented. The No Action Alternative provides the baseline conditions for comparison to the Proposed Alternative.

Impacts analyzed include a wide range of environmental resource areas: Land use, air quality, noise, geology and soils, water resources, biological resources, cultural resources, socioeconomics, transportation, utilities, hazardous and toxic substances, sustainability, and cumulative environmental effects. Additional concerns or impacts may be identified as a result of comments received on this DEIS.

The Army invites full public participation to promote open communication and better decision making, including comment on the DEIS and participation in public meetings which will be announced in advance in local news media. The DEIS is available at local libraries surrounding Fort Carson and PCMS, and the document may also be accessed at http://www.aec.army.mil. Comments from the public will be considered before any decision is made regarding implementation of the Proposed Action.

Dated: October 3, 2008.
Addison D. Davis, IV,
Deputy Assistant Secretary of the Army (Environment, Safety and Occupational Health).

[FR Doc. E8-23995 Filed 10-9-08; 8:45 am]

BILLING CODE 3710-08-M